DEPARTMENT OF TRANSPORTATION

Federal Aviation Administration

14 CFR Part 39

[Docket No. FAA-2005-20768; Directorate Identifier 2005-CE-16-AD]

RIN 2120-AA64

Airworthiness Directives; Burkhart Grob Model G 103 C Twin III SL Sailplanes

AGENCY: Federal Aviation Administration (FAA), DOT.

ACTION: Notice of proposed rulemaking (NPRM).

SUMMARY: The FAA proposes to supersede Airworthiness Directive (AD) 97-24-09, which applies to Burkhart Grob Model G 103 C Twin III SL sailplanes. AD 97-24-09 currently requires repetitively inspecting the propeller bearing and upper pulley wheel for increased play and, if increased play is found, modifying the propeller bearing and pulley wheel. This proposed AD results from mandatory continuing airworthiness information (MCAI) issued by the airworthiness authority for Germany. We are issuing this proposed AD to prevent loss of the sailplane propeller caused by increased play in the current design propeller bearing and upper pulley wheel. This could result in loss of control of the sailplane.

DATES: We must receive any comments on this proposed AD by July 25, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., NASSIF Building, Room PL-401, Washington, DC 20590-001.

• Fax: 1-202-493-2251.

• Hand Delivery: Room PL-401 on the plaza level of the NASSIF Building, 400 Seventh Street, SW., Washington, DC, between 9 a.m. and 5 p.m., Monday through Friday, except Federal holidays.

To get the service information identified in this proposed AD, contact GROB LUFT-und, Raumfahrt, Lettenbachstrasse 9, D-86874 tussenhausen-Mattsies, Federal Republic of Germany; telephone: +49 8268 998139; facsimile: +49 8268 998200.

To view the comments to this proposed AD, go to http://dms.dot.gov. The docket number is FAA-2005-20768; Directorate Identifier 2005-CE-16-AD.

FOR FURTHER INFORMATION CONTACT: Gregory A. Davison, Aerospace Engineer, ACE-112, Small Airplane Directorate, 901 Locust, Room 301, Kansas City, Missouri 64106; telephone: (816) 329-4130; facsimile: (816) 329-4149.

SUPPLEMENTARY INFORMATION:

Comments Invited

How do I comment on this proposed AD? We invite you to submit any written relevant data, views, or arguments regarding this proposal. Send your comments to an address listed under ADDRESSES. Include the docket number, “FAA-2005-20768; Directorate Identifier 2005-CE-16-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2005-20768; Directorate Identifier 2005-CE-16-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

Has FAA taken any action to this point? Increased play in the propeller bearing and pulley wheel on a Burkhart Grob Model G 103 C Twin III SL sailplane caused us to issue AD 97-24-09, Amendment 39-10216 (62 FR 62945, November 26, 1997). AD 97-24-09 currently requires the following on Grob Model G 103 C Twin III SL sailplanes:

—Repetitively inspecting the propeller bearing and upper pulley wheel for increased play; and

—If increased play is found, modifying the propeller bearing and pulley wheel with a part of improved design.

What has happened since AD 97-24-09 to initiate this proposed action? The LBA, which is the airworthiness authority for Germany, recently notified FAA of the need to change AD 97-24-09. On April 24, 2002, Grob issued Service Bulletin 869-18/3, dated May 24, 2002, further revising the installation requirements (torque values) specified in their previous bulletin. Specifically, the service bulletin includes procedures for modifying the grooved nut of the upper pulley wheel.

What action did the LBA take? The LBA classified this service bulletin as mandatory and issued German AD 1996-206/3, dated August 22, 2002, to ensure the continued airworthiness of these sailplanes in Germany.

Did the LBA inform the United States under the bilateral airworthiness agreement? These Grob Model G 103 C Twin III SL sailplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of This Proposed AD

What has FAA decided? We have examined the LBA's findings, reviewed all available information, and determined that AD action is necessary for products of this type design that are certificated for operation in the United States.

Since the unsafe condition described previously is likely to exist or develop on other Burkhart Grob Model G 103 C Twin III SL sailplanes of the same type design that are registered in the United States, we are proposing AD action to prevent loss of the sailplane propeller caused by increased play in the current design propeller bearing and upper pulley wheel. This could result in loss of control of the sailplane.

What would this proposed AD require? This proposed AD would supersede AD 97-24-09 with a new AD that would incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many sailplanes would this proposed AD impact? We estimate that this proposed AD affects 8 sailplanes in the U.S. registry.

What would be the cost impact of this proposed AD on owners/operators of the affected sailplanes? We estimate the following costs to do this proposed modification:

Labor cost | Parts cost | Total cost per sailplane | Total cost on U.S. operators
6 workhours × $65 = $390 | N/A | $390 | $3,120

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the National Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-20768; Directorate Identifier 2005-CE-16-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 97-24-09, Amendment 39-10216 (62 FR 62945, November 26, 1997), and by adding a new AD to read as follows:

Burkhart Grob Luft-und: Docket No. FAA-2005-20768; Directorate Identifier 2005-CE-16-AD.

When Is the Last Date I Can Submit Comments on This Proposed AD?

(a) We must receive comments on this proposed airworthiness directive (AD) by July 25, 2005.

What Other ADs Are Affected by This Action?

(b) This AD supersedes AD 97-24-09, Amendment 39-10216.

What Sailplanes Are Affected by This AD?

(c) This AD affects the Model G 103 C Twin III SL sailplanes, serial numbers 35002 through 35051, that are certificated in any category.

What is the Unsafe Condition Presented in This AD?

(d) This AD is the result of increased play of the propeller bearing. The actions specified in this AD are intended to prevent loss of the sailplane propeller caused by increased play in the current design propeller bearing and upper pulley wheel. This could result in loss of control of the sailplane.

What Must I Do To Address This Problem?

(e) To address this problem, you must do the following:

Actions | Compliance | Procedures
Modify the propeller bearing and upper pulley wheel by installing a new securing plate (part number 103SL-W-6400.12) and tightening the grooved nut. Use the new torque values as specified in the Burkhart Grob Service Bulletin MSB869-18/3, dated May 24, 2002 | Within 25 engine operating hours after the effective date of this AD | Follow Burkhart Grob Service Bulletin MSB869-18, dated March 7, 1996 (including the reissued page 6 from Burkhart Grob Service Bulletin MSB869-18/2, dated July 3, 1996, issued as a complement and a correction to Burkhart Grob Service Bulletin MSB869-18, dated March 7, 1996) and Burkhart Grob Service Bulletin MSB869-18/3, dated May 24, 2002. Use the new torque values as specified in the Burkhart Grob Service Bulletin MSG869-18/3, dated May 24, 2002.

May I Request an Alternative Method of Compliance?

(f) You may request a different method of compliance or a different compliance time for this AD by following the procedures in 14 CFR 39.19. Unless FAA authorizes comments and will send your request to the Manager, Standards Office, Small Airplane Directorate, FAA. For information on any alternative methods of compliance, contact Gregory A. Davison, Aerospace Engineer, ACE-112, Small Airplane Directorate, 901 Locust, Room 301, Kansas City, Missouri 64106; telephone: (816) 329-4130; facsimile: (816) 329-4149.

Is There Other Information That Relates to This Subject?

(g) LBA Airworthiness Directive 1996-206/3, dated August 22, 2002; Burkhart Grob Service Bulletin MSB869-18, dated March 7, 1996; Grob Service Bulletin MSB869-18/2, dated July 3, 1996; and Grob Service Bulletin MSB869-18/3, dated May 24, 2002, also address the subject of this AD.

May I Get Copies of the Documents Referenced in This AD?

(h) To get copies of the documents referenced in this AD, contact GROB LUFT-und, Raumfahrt, Lettenbachstrasse 9, D-86874 tussenhausen-Mattsies, Federal Republic of Germany; telephone: +49 8268 998139; facsimile: +49 8268 998200. To view the AD docket, go to the Docket Management Facility; U.S. Department of Transportation, 400 Seventh Street, SW., NASSIF Building, Room PL-401, Washington, DC, or on the Internet at http://dms.dot.gov. This is docket number FAA-2005-20768; Directorate ID 2005-CE-16-AD.

Issued in Kansas City, Missouri, on June 15, 2005.
John R. Colomy,
Acting Manager, Small Airplane Directorate, Aircraft Certification Service.

[FR Doc. 05-12178 Filed 6-20-05; 8:45 am]

BILLING CODE 4910-13-P